DEPARTMENT OF AGRICULTURE

Farm Service Agency

[Docket ID FSA-2022-0014]

Notice of Funding Availability (NOFA) for the Emergency Grain Storage Facility Assistance Program (EGSFP)

AGENCY: Farm Service Agency, USDA.

ACTION: Notice of funding availability; amendment.

SUMMARY: The Farm Service Agency (FSA) is announcing an increase in the initial funding for EGSFP to $80 million, which will be the final funding amount for the program, from the initially announced $20 million due to the high demand for EGSFP. FSA published a notice of funding availability (NOFA) notice on March 16, 2023, announcing the availability of $20 million for EGSFP. EGSFP provides financial assistance to eligible grain producers who were affected by an eligible disaster event that damaged or destroyed local commercial grain elevators. EGSFP is cost-share assistance to construct storage facilities needed to meet on-farm grain storage capacity and handling needs necessary to support the marketing of grain for producers. This notice updates the initial funding amount for the program from $20 million to $80 million and closes the application period for the program due to the current volume of applications received. This notice will not change any other information in the original EGSFP NOFA.

FOR FURTHER INFORMATION CONTACT: Danielle L. Cooke, (202) 720-1919; Danielle.Cooke@usda.gov. Individuals who require alternative means for communication should contact the USDA Target Center at (202) 720-2600 (voice).

SUPPLEMENTARY INFORMATION: In the Federal Register on March 16, 2023 (88 FR 16230-16235) (referred to in this document as the March EGSFP NOFA), FSA announced the funding to implement EGSFP. At that time the funding level was announced as $20 million. FSA received a greater than expected number of applications and has not yet made any payments under EGSFP. FSA is replacing the initial funding level with a funding level of $80 million, an increase of $60 million due to the high demand for EGSFP.

EGSFP provides financial assistance to eligible grain producers who were affected by an eligible disaster event that damaged or destroyed local commercial grain elevators. EGSFP is cost-share assistance to construct storage facilities needed to meet on-farm grain storage capacity and handling needs necessary to support the marketing of grain for producers.

The Commodity Credit Corporation (CCC) is making available $80 million to FSA to provide financial assistance to grain producers through EGSFP to assist with marketing disruptions and limited storage capacity caused by eligible disaster events in affected counties from December 1, 2021, through August 1, 2022. The $80 million funding for the EGSFP assistance will remain available until expended. FSA has no plans to further increase the funding for EGSFP. Due to the high demand for EGSFP assistance and limited funding, FSA will not accept new EGSFP applications after August 7, 2023. The increased funding level announced by this notice will enable FSA to fund additional eligible applications that have already been received. However, the high demand for EGSFP assistance means that FSA will not be able to approve and fund all eligible applications that have already been received by FSA at this time and any additional applications received after this date would likewise not be funded. As explained in the March EGSFP NOFA: DAFP has the authority to modify application deadlines and other requirements or EGSFP provisions not specified in law in cases where DAFP determines it is equitable to do so and where it does not adversely affect the operation of EGSFP. Therefore, as explained above, DAFP has determined that the original application deadline has been modified and is now August 7, 2023.

This notice will not change any other information stated in the March EGSFP NOFA.

Congressional Review Act

For major rules, the Congressional Review Act requires a delay in the effective date for 60 days from the date of publication to allow for Congressional review. This NOFA is not a major rule under the Congressional Review Act, as defined by 5 U.S.C. 804(2). Therefore, this NOFA does not require a 60-day delay in implementation.

Environmental Review

The environmental impacts have been considered in a manner consistent with the provisions of the National Environmental Policy Act (NEPA, 42 U.S.C. 4321-4347), the regulations of the Council on Environmental Quality (40 CFR parts 1500-1508), and the FSA regulations for compliance with NEPA (7 CFR part 799).

The purpose of EGSFP is to establish assistance to help agricultural producers in affected counties, including those in Illinois, Iowa, Kentucky, Minnesota, Missouri, North Dakota, South Dakota, and Tennessee, purchase and build on-farm grain storage and purchase drying and handling equipment necessary due to marketing and storage disruptions caused by devastating natural disaster events from December 1, 2021, through August 1, 2022. The limited discretionary aspects of EGSFP do not have the potential to impact the human environment as they are administrative. Accordingly, these discretionary aspects are covered by the categorical exclusions in 7 CFR 799.31(b)(6)(iii) that applies to price support programs, provided no extraordinary circumstances are found to exist. As such, the implementation of EGSFP and the participation in EGSFP do not constitute major Federal actions that would significantly affect the quality of the human environment, individually or cumulatively. Therefore, FSA will not prepare an environmental assessment or environmental impact statement for this action and this document serves as documentation of the programmatic environmental compliance decision for this Federal action.

Zach Ducheneaux,
Administrator, Farm Service Agency.

[FR Doc. 2023-16745 Filed 8-3-23; 8:45 am]

BILLING CODE 3411-E2-P